Proclamation 7396 of January 17, 2001

Establishment of the Pompeys Pillar National Monument

By the President of the United States of America

A Proclamation

Pompeys Pillar National Monument is a massive sandstone outcrop that rises from an almost two-acre base on the banks of the Yellowstone River 150 feet toward Montana's Big Sky, east of Billings. The monument's premier location at a natural ford in the Yellowstone River, and its geologic distinction as the only major sandstone formation in the area, have made Pompeys Pillar a celebrated landmark and outstanding observation point for more than eleven thousand years of human occupation. Hundreds of markings, petroglyphs, and inscriptions left by visitors have transformed this geologic phenomenon into a living journal of the American West.

The monument's most notable visitor, Captain William Clark of the Lewis and Clark Expedition, arrived at Pompeys Pillar on July 25, 1806, on his return trip from the Pacific coast. Clark's journal recorded his stop at this “remarkable rock” with its “extensive view in every direction.” He described an idyllic landscape of grassy plains, snow-capped mountains, and cliffs abutting the wandering river. Clark marked his presence by engraving his name and the date of his visit on the outcrop. This simple inscription is the only remaining physical evidence of Lewis and Clark's epic journey. In his journal, Clark named the rock Pompy's Tower, Pompy being Clark's nickname for Sacagawea's young son, Jean Baptiste Charbonneau, who was born at the expedition's winter camp at Fort Mandan on February 11, 1805. The name was changed to Pompeys Pillar by author Nicholas Biddle when his account of the Expedition was published in 1814.

Ethnographic and archaeological evidence indicates that the Pillar was a place of ritual and religious activity. Hundreds of petroglyphs on the face of the rock, noted by Clark in his journal, reflect the importance of the monument to early peoples. The Crow people, the dominant residents of the region when Clark passed through, call the pillar the “Mountain Lions Lodge” in their language, and it figures prominently in Crow oral history. Pompeys Pillar also includes the markings and signature of a host of characters from the pioneer past, including fur trappers, Yellowstone River steamboat men, frontier army troops, railroad workers, missionaries, and early settlers. In 1873, Lieutenant Colonel George Armstrong Custer and his men camped at its base, where they came under attack from Sioux snipers.

Section 2 of the Act of June 8, 1906 (34 Stat. 225, 16 U.S.C. 431), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected.

WHEREAS it appears that it would be in the public interest to reserve such lands as a national monument to be known as the Pompeys Pillar National Monument:

NOW, THEREFORE, I, WILLIAM J. CLINTON, President of the United States of America, by the authority vested in me by section 2 of the Act of June 8, 1906 (34 Stat. 225, 16 U.S.C. 431), do proclaim that there are hereby set apart and reserved as the Pompeys Pillar National Monument, for the purpose of protecting the objects identified above, all lands and interests in lands owned or controlled by the United States within the boundaries of the area described on the map entitled “Pompeys Pillar National Monument” attached to and forming a part of this proclamation. The Federal land and interests in land reserved consist of approximately 51 acres, which is the smallest area compatible with the proper care and management of the objects to be protected.

All Federal lands and interests in lands within the boundaries of this monument are hereby appropriated and withdrawn from all forms of entry, location, selection, sale, or leasing or other disposition under the public land laws, including but not limited to withdrawal from location, entry, and patent under the mining laws, and from disposition under all laws relating to mineral and geothermal leasing.

Lands and interests in lands within the proposed monument not owned by the United States shall be reserved as a part of the monument upon acquisition of title thereto by the United States.

The Secretary of the Interior shall manage the monument through the Bureau of Land Management, pursuant to applicable legal authorities, to implement the purposes of this proclamation.

The establishment of this monument is subject to any valid existing rights, including the mineral estate held by the United States in trust for the Crow Tribe.

Nothing in this proclamation shall be deemed to enlarge or diminish the jurisdiction of the State of Montana with respect to fish and wildlife management.

This proclamation does not reserve water as a matter of Federal law. Nothing in this reservation shall be construed as a relinquishment or reduction of any water use or rights reserved or appropriated by the United States on or before the date of this proclamation. The Secretary shall work with appropriate State authorities to ensure that any water resources needed for monument purposes are available.

Nothing in this proclamation shall be deemed to revoke any existing withdrawal, reservation, or appropriation; however,the national monument shall be the dominant reservation. Warning is hereby given to all unauthorized persons not to appropriate, injure, destroy, or remove any feature of this monument and not to locate or settle upon any of the lands thereof.

IN WITNESS WHEREOF, I have hereunto set my hand this seventeenth day of January, in the year of our Lord two thousand one, and of the Independence of the United States of America the two hundred and twenty-fifth.

Billing code 3195-01-P

[FR Doc. 01-2101

Filed 1-19-01; 8:45 am]

Billing code 3195-01-C